EQUAL EMPLOYMENT OPPORTUNITY COMMISSION

29 CFR Part 1602

[3046-0007]

Reinstatement of Revised EEO-1: Pay Data Collection

AGENCY: Equal Employment Opportunity Commission.

ACTION: Announcement of immediate reinstatement of revised EEO-1: Pay Data Collection.

SUMMARY: The U.S. Equal Employment Opportunity Commission (EEOC) announces immediate reinstatement of the revised EEO-1: Pay Data Collection, and the collection of 2018 pay data (EEO-1 Component 2) from EEO-1 filers by September 30, 2019.

DATES: April 30, 2019. The EEOC expects to begin collecting EEO-1 Component 2 data for calendar year 2018 in mid-July 2019.

FOR FURTHER INFORMATION CONTACT: Rashida Dorsey, Ph.D., MPH, Director, Data Development and Information Products Division and Senior Advisor on Data Strategy, Office of Enterprise Data and Analytics, Equal Employment Opportunity Commission, 131 M Street NE, Room 4SW32L, Washington, DC 20507; (202) 663-4355 (voice) or (202) 663-7063 (TTY). Requests for this notice in an alternative format should be made to the Office of Communications and Legislative Affairs at (202) 663-4191 (voice) or (202) 663-4494 (TTY).

SUPPLEMENTARY INFORMATION: EEO-1 filers should begin preparing to submit Component 2 data for calendar year 2018 by September 30, 2019, in light of the court's recent decision in National Women's Law Center, et al., v. Office of Management and Budget, et al., Civil Action No. 17-cv-2458 (D.D.C.). The EEOC expects to begin collecting EEO-1 Component 2 data for calendar year 2018 in mid-July, 2019, and will notify filers of the precise date the survey will open as soon as it is available. Filers should continue to use the currently open EEO-1 portal to submit Component 1 data from 2018 by May 31, 2019.

As a result of the court vacating the Office of Management and Budget's stay of Component 2, the EEOC will also collect Component 2 data for either calendar year 2017 or calendar year 2019, and by May 3, 2019, will submit for publication in the Federal Register an additional notice announcing its decision.

Because the Component 2 collection has been reinstated by the court, the EEOC's previous Federal Register notice, published on September 15, 2017 (82 FR 43362) and announcing the stay of the Component 2 collection, is hereby rescinded.

Dated: April 29, 2019.
For the Commission.
Victoria A. Lipnic,
Acting Chair.

[FR Doc. 2019-09002 Filed 4-30-19; 8:45 am]

BILLING CODE 6570-01-P